Title 3—

The President

Proclamation 9288 of May 29, 2015

African-American Music Appreciation Month, 2015

By the President of the United States of America

A Proclamation

For centuries, African-American musicians have shaped our Nation and helped tell our story. By melding enduring truths with new sounds, they have pioneered entire genres and contributed to the foundation of our musical landscape—capturing an essential part of who we are as Americans. During African-American Music Appreciation Month, we recognize the artists who have enriched our lives and the ways their beats and harmonies have advanced our unending journey toward a more perfect Union.

With all the energy and diversity of our great Nation, the stirring sounds of the American experience have expanded our minds and lifted our souls, helping us better understand ourselves and one another. When the tides of injustice and hardship have seemed too great, melodies of hope have given us strength, and in moments of joy, powerful songs speak to the audacity that fuels our dreams. Through momentous change—above the jangling discord of a people determined to write their own destiny and the consonance of great progress—our music has remained a constant source of inspiration, bringing us together and empowering us to reach for what we know is possible.

By honoring the timeless sounds that define our past and help transform our future, we celebrate not only the musicians who move us, but also the spirit of resilience and renewal they embody. This month, let us remember the essential role music plays in breaking the barriers of our time and guiding us toward a more inclusive and more equal tomorrow.

NOW, THEREFORE, I, BARACK OBAMA, President of the United States of America, by virtue of the authority vested in me by the Constitution and the laws of the United States, do hereby proclaim June 2015 as African-American Music Appreciation Month. I call upon public officials, educators, and all the people of the United States to observe this month with appropriate activities and programs that raise awareness and foster appreciation of music that is composed, arranged, or performed by African Americans.

IN WITNESS WHEREOF, I have hereunto set my hand this twenty-ninth day of May, in the year of our Lord two thousand fifteen, and of the Independence of the United States of America the two hundred and thirty-ninth.

[FR Doc. 2015-13745

Filed 6-2-15; 11:15 am]

Billing code 3295-F5